DEPARTMENT OF ENERGY

Office of Energy Efficiency and Renewable Energy

Wind and Water Power Program

AGENCY: Office of Energy Efficiency and Renewable Energy, Department of Energy, DOE.

ACTION: Notice of public meeting.

SUMMARY: The Department of Energy (DOE) Wind and Water Power Program is planning a coordination workshop to exchange information among parties engaged in Mid-Atlantic marine ecological survey, modeling, and database efforts. This meeting will be a technical discussion to provide those involved in these activities with information regarding the current efforts of others involved in similar or related efforts.

DATES: DOE will hold a workshop on Tuesday, July 24, 2012, from 8:30 a.m. to 5:00 p.m. and Wednesday, July 25, 2012, from 8:30 a.m. to 5:00 p.m. in Silver Spring, MD. RSVP is required by July 7, 2012.

ADDRESSES: The workshop will be held at NOAA's Silver Spring headquarters located at 1305 East-West Hwy, SSMC-4, Room 1W611, Silver Spring, MD 20910-3281.

FOR FURTHER INFORMATION CONTACT: Mr. Patrick Gilman, Office of Energy Efficiency and Renewable Energy, U.S. Department of Energy, 1000 Independence Avenue SW., Washington, DC 20585. Telephone: (202) 586-3449. Email: patrick.gilman@ee.doe.gov.

SUPPLEMENTARY INFORMATION: The purpose of this workshop is to share information among parties engaged in marine ecological survey, modeling, and database efforts in the waters off the Mid-Atlantic. The workshop aims to provide information and an opportunity to those involved to help ensure that efforts are well-coordinated, complementary and, to the greatest extent possible, that these efforts help meet baseline data and derived product needs for siting and permitting offshore wind facilities. Specifically, this workshop will address ongoing offshore ecological survey efforts and the potential for development of complementary predictive models and compatible Federal and regional databases. It is not the object of this session to obtain any group position or consensus. Participants should limit information and comments to those based on personal experience, individual advice, information, or facts regarding this topic. This meeting is an opportunity for participants to gain an individual understanding of ecological survey efforts. To most effectively use the limited time, please refrain from passing judgment on another participant's recommendations or advice and, instead, concentrate on your individual experiences.

Public Participation: Federal agencies, scientists, modelers, and data management experts will be in attendance. The event is open to the public based on space availability. Participants are required to pre-register and space is limited.

Pre-Registration: To pre-register, please contact Ms. Jenn ZiBerna via email at Mid-atlanticworkshop@sra.com or by telephone at 202.554.8480 Ext. 2932. Participants interested in attending should provide their names, company name or organization (if applicable), telephone number, email, and country of citizenship no later than the close of business on July 7, 2012. All attendees are required to pre-register.

Agenda: The first day of the workshop will focus on information sharing between and on-going coordination of current and recent wildlife surveys in the Mid-Atlantic. The second day will be comprised of two tracks: one focused on identifying challenges and coordination opportunities among current biological modeling efforts for species in the Mid-Atlantic and the second focused on increasing compatibility among data systems used to house survey data.

Information on Services for Individuals with Disabilities: Individuals requiring special accommodations at the meeting, please contact Ms. ZiBerna no later than the close of business on July 7, 2012.

Minutes: A summary report of the meeting will be available for printing at the DOE Wind Program Online Publication and Product Library at: wind.energy.gov/publications.html.

Issued in Washington, DC on June 13, 2012.
Mark Higgins,
Wind and Water Power Acting Program Manager, Office of Energy Efficiency and Renewable Energy.

[FR Doc. 2012-15772 Filed 6-26-12; 8:45 am]

BILLING CODE 6450-01-P